COMMITTEE FOR PURCHASE FROM PEOPLE WHO ARE BLIND OR SEVERELY DISABLED

Procurement List; Proposed Deletions

AGENCY: Committee for Purchase from People Who are Blind or Severely Disabled.

ACTION: Proposed deletions from the Procurement List.

SUMMARY: The Committee is proposing to delete a product and services from the Procurement List that was previously furnished by nonprofit agencies employing persons who are blind or have other severe disabilities.

DATES: Comments must be received on or before: November 11, 2018.

ADDRESSES: Committee for Purchase from People Who are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product and services are proposed for deletion from the Procurement List:

Product

NSN(s)—Product Name(s): MR 377—Socks, Holiday

Mandatory Source of Supply: Winston-Salem Industries for the Blind, Inc., Winston-Salem, NC

Contracting Activity: Defense Commissary Agency

Services

Service Types:

Grounds Maintenance Service

Janitorial/Custodial Service

U.S. Army Reserve Facility: 4415 N Market Street, Mann Hall, Spokane, WA

U.S. Army Reserve Facility: N 3800 Sullivan Road, Spokane, WA

Mandatory Source of Supply: Good Works, Inc., Spokane, WA

Contracting Activity: DEPT OF THE ARMY, W6QM MICC FT MCCOY (RC)

Service Type: Disposal Support Service

Mandatory for: Columbus Air Force Base, Columbus AFB, MS

Mandatory Source of Supply: Alabama Goodwill Industries, Inc., Birmingham, AL

Contracting Activity: DEPT OF THE AIR FORCE, FA3022 14 CONS LGCA

Michael R. Jurkowski,
Business Management Specialist, Business Operations.

[FR Doc. 2018-22260 Filed 10-11-18; 8:45 am]

BILLING CODE 6353-01-P